DEPARTMENT OF AGRICULTURE

Federal Crop Insurance Corporation

7 CFR Part 407

[Docket ID FCIC-21-0005]

RIN 0563-AC74

Area Risk Protection Insurance Regulations

AGENCY: Federal Crop Insurance Corporation, U.S. Department of Agriculture (USDA).

ACTION: Correcting amendment.

SUMMARY: On June 30, 2021, the Federal Crop Insurance Corporation revised the Area Risk Protection Insurance (ARPI) Regulations and Common Crop Insurance Policy (CCIP) Basic Provisions. That final rule inadvertently failed to revise the applicable crop year in the introductory text of the ARPI policy. This document makes the correction.

DATES: Effective August 5, 2021.

FOR FURTHER INFORMATION CONTACT: Francie Tolle; telephone (816) 926-7730; email francie.tolle@usda.gov. Persons with disabilities who require alternative means of communication should contact the USDA Target Center at (202) 720-2600 or 844-433-2774.

SUPPLEMENTARY INFORMATION:

Background

The Area Risk Protection Insurance (ARPI) Regulations in 7 CFR 407 were revised by a final rule published in the Federal Register on June 30, 2021 (86 FR 34606-34611). That final rule inadvertently failed to revise the applicable crop year in the introductory text of the ARPI policy. 2022 is the effective crop year. This document makes that correction.

List of Subjects in 7 CFR Part 407

Acreage allotments, Administrative practice and procedure, Barley, Corn, Cotton, Crop insurance, Peanuts, Reporting and recordkeeping requirements, Sorghum, Soybeans, Wheat.

Accordingly, 7 CFR part 407 is corrected by making the following correcting amendment:

PART 407—AREA RISK PROTECTION INSURANCE REGULATIONS

1. The authority citation for part 407 continues to read as follows:

Authority: 7 U.S.C. 1506(l) and 1506(o).

§ 407.9 [Corrected]

2. In § 407.9, in the introductory text, remove the year “2021” and add “2022” in its place.

Richard Flournoy,
Acting Manager, Federal Crop Insurance Corporation.

[FR Doc. 2021-16539 Filed 8-4-21; 8:45 am]

BILLING CODE 3410-08-P